NATIONAL SCIENCE FOUNDATION

Notice of Permits Issued Under the Antarctic Conservation Act of 1978

AGENCY: National Science Foundation.

ACTION: Notice of permits issued.

SUMMARY: The National Science Foundation (NSF) is required to publish notice of permits issued under the Antarctic Conservation Act of 1978. This is the required notice.

FOR FURTHER INFORMATION CONTACT: Nature McGinn, ACA Permit Officer, Office of Polar Programs, National Science Foundation, 2415 Eisenhower Avenue, Alexandria, VA 22314; 703-292-8030; email: ACApermits@nsf.gov.

SUPPLEMENTARY INFORMATION: On December 1, 2017, the National Science Foundation published a notice in the Federal Register of a permit applications received. The permits were issued on January 2, 2018 to:

1. Bradford Clement—Permit No. 2018-027

2. Stephen C. Riser—Permit No. 2018-029

Nadene G. Kennedy,
Polar Coordination Specialist, Office of Polar Programs.

[FR Doc. 2018-00087 Filed 1-5-18; 8:45 am]

BILLING CODE 7555-01-P